DEPARTMENT OF THE INTERIOR

National Park Service

National Preservation Technology and Training Board: Meeting

AGENCY: National Park Service, Interior.

ACTION: Notice.

Notice is hereby given in accordance with the Federal Advisory Committee Act, 5 U.S.C. Appendix (1988), that the National Preservation Technology and Training Board will meet on November 13 and 14, 2002, in Nachitoches, LA.

The Board was established by Congress to provide leadership, policy advice, and professional oversight to the National Center for Preservation Technology and Training (NCPTT), as required under the National Historic Preservation Act of 1966, as amended (16 U.S.C. 470).

The Board will meet in the Nachitoches Room of Russell Hall, on the campus of Northwestern State University of Louisiana, Nachitoches, LA. Wednesday, November 13, the meeting will start at 9:00 a.m. and end no later than 5:00 p.m. On Thursday, November 14, the meeting will start at 9:00 a.m. and end no later than 12:00 p.m. Matters to be discussed will include National Park Service updates on fiscal year 2003 budget and administration issues, NCPTT work plan, reports from partners, the strategic and business plans of NCPTT, and new business.

The meeting is open to the public. Facilities and space for accommodating members of the public are limited, however, and persons will be accommodated on a first-come, first-served basis. Any member of the public may file a written statement concerning the matters to be discussed.

Persons wishing more information concerning this meeting, or who wish to submit written statements, may contact Mr. de Teel Patterson Tiller, Deputy Associate Director, Historic Preservation, Recreation, and Partnerships, 1849 C Street NW-3128 MIB, Washington, DC 20240, telephone (202) 208-7625. Increased security in the Washington, DC, area may cause delays in the delivery of U.S. Mail to Government offices. In addition to mail or commercial delivery, please fax a copy of the written submission to Mr. Tiller at (202) 208-7625.

Minutes of the meeting will be available for public inspection about 8 weeks after the meeting at the office of the Associate Director, Historic Preservation, Recreation, and Partnerships, 1849 C Street NW, Room 3128, Washington, DC.

Dated: August 20, 2002.
de Teel Patterson Tiller,
Deputy Associate Director, Historic Preservation, Recreation, and Partnerships.

[FR Doc. 02-24071 Filed 9-20-02; 8:45 am]

BILLING CODE 4310-70-S